DEPARTMENT OF DEFENSE

Department of the Army; Corps of Engineers

Intent To Prepare an Environmental Impact Statement (EIS) for the San Juan Creek and Tributaries Flood Risk Management Study, Orange County, CA

AGENCY: Department of the Army, U.S. Army Corps of Engineers, DOD.

ACTION: Notice of intent.

SUMMARY: The Los Angeles District of the U.S. Army Corps of Engineers will prepare an EIS to support the San Juan Creek, South Orange County, Feasibility Study. The purpose of this feasibility study is to evaluate flood risk management alternative measures along the lower portions of San Juan, Trabuco, and Oso Creeks. The San Juan Creek Watershed encompasses approximately 176 square miles of southern Orange County and western Riverside County in southern California. The Orange County Public Works Department is the local sponsor for this study.

The study area extends along approximately 10.5 miles of San Juan Creek from the Pacific Ocean to the southern end of Ronald W. Casper's Wilderness Park, at the confluence of Bell Canyon Creek; Trabuco Creek from its confluence with San Juan Creek north approximately 9.5 miles to its confluence with Tijeras Creek; and Oso Creek from its confluence with Trabuco Creek northwest approximately 4.5 miles to just north of Oso Parkway. The communities of San Juan Capistrano, Mission Viejo, Laguna Hills, Laguna Niguel, Dana Point, Rancho Santa Margarita, Ladera Ranch, and Las Flores are located within the study boundary.

DATES: A scoping meeting is scheduled for October 27, 2010, 6 p.m. to 9 p.m.

ADDRESSES: The scoping meeting will be held at the San Juan Capistrano Community Center, 25925 Camino del Avion, San Juan Capistrano, CA 92675.

FOR FURTHER INFORMATION CONTACT: Ms. Gail Campos, the Environmental Coordinator at: U.S. Army Corps of Engineers, Los Angeles District, CESPL-PD-RL, c/o Gail Campos, P.O. Box 532711, Los Angeles, CA 90053-2325. Phone and e-mail contacts are: Ms. Gail Campos at 213-452-3874 and gail.m.campos@usace.army.mil.

SUPPLEMENTARY INFORMATION:

1. Authorization. The proposed study is authorized by a resolution of the Committee on Public Works; House of Representatives dated May 8, 1964, which reads as follows:

“Resolved by the Committee on Public Works of the House of Representatives, United States, that the Board of Engineers for Rivers and Harbors is hereby requested to review the reports on (a) San Gabriel River and Tributaries, published as House Document No. 838, 76th Congress, 3d Session; (b) Santa Ana River and Tributaries, published as House Document No. 135, 81st Congress, 1st Session; and (c) the project authorized by the Flood Control Act of 1936 for the protection of the metropolitan area in Orange County, with a view to determining the advisability of modification of the authorized projects in the interest of flood control and related purposes.”

2. Background. San Juan Creek is approximately 27 miles long, from the Cleveland National Forest in the Santa Ana Mountains to the Pacific Ocean at Doheny State Beach near Dana Point Harbor. The riverine corridor ranges from channelized segments with highly impacted environments with little vegetation, to segments in which there has been little change from the natural ecosystem.

Trabuco Creek originates in the Santa Ana Mountains and flows for about 25 miles before the confluence with San Juan Creek. The lower several miles of Trabuco Creek have been channelized for flood risk management and erosion control within the City of San Juan Capistrano. The remainder of the Trabuco Creek channel remains in a relatively natural condition.

Oso Creek originates in the foothills of the Santa Ana Mountains and flows for a distance of 13.5 miles before the confluence with Trabuco Creek. The lower 4.5 miles of Oso Creek include armored channel reaches, culverts, grade controls and drop structures, bridge crossings and detention basins.

In response to the study authority, an interim watershed feasibility study was prepared in August 2002. This study will incorporate the prior data related to applicable problems, opportunities and evaluations for the downstream portions of the watershed.

3. Objectives. The planning objectives for this study are:

• To reduce the risk of flood damages in lower portions of the watershed along San Juan, Oso and Trabuco Creeks.

• To address stream bank erosion and channel instability in the lower portions of San Juan, Trabuco and Oso Creeks.

• To maintain habitat values in the study area to the extent practicable.

An iterative plan formulation and evaluation process will be documented in consideration of a range of potential flood risk management and channel stabilization alternatives.

4. Scoping Process. Participation by affected federal, state and local resource agencies, Native American groups and concerned interest groups/individuals are encouraged to participate in the scoping process. Public participation is critical in defining the scope of analysis in the EIS, identifying significant environmental issues in the EIS, providing useful information such as published and unpublished data, personal knowledge of relevant issues and recommending mitigation measures to offset potential impacts from proposed actions. Additionally, the time and location of the public scoping meeting will be advertised in letters, public announcements and news releases.

Potential impacts associated with the proposed action will be evaluated. Resource categories that will be analyzed include: physical environment, geology, biological resources, air quality, water quality, recreational usage, aesthetics, cultural resources, transportation, noise, hazardous waste, socioeconomics and safety.

Those interested in providing information or data relevant to the study can furnish this information by writing to the points of contact indicated above or by attending the public scoping meeting. A mailing list will also be established so pertinent data may be distributed to interested parties.

Brenda S. Bowen,
Army Federal Register Liaison Officer.

[FR Doc. 2010-25351 Filed 10-6-10; 8:45 am]

BILLING CODE 3720-58-P